DEPARTMENT OF COMMERCE

National Oceanic and Atmospheric Administration

RIN 0648-XA313

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held April 11-14, 2011.

ADDRESSES: The meetings will be held at the Perdido Beach Resort, 27200 Perdido Beach Boulevard, Orange Beach, AL 36561; telephone: (251) 981-9811.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Wednesday, April 13, 2011

3:30 p.m.—The Council meeting will begin with a review of the agenda and approval of the minutes.

3:45 p.m.-4 p.m.—The Council will receive a presentation titled “Fisheries 101.”

4 p.m.-6 p.m.—The Council will receive public testimony on exempted fishing permits (EFPs), if any; Final Action on the interim rule for gag grouper; and hold an open public comment period regarding any fishery issue of concern. People wishing to speak before the Council should complete a public comment card prior to the comment period.

Thursday, April 14, 2011

8:30 a.m.-10 a.m.—The Council will receive presentations on fishery dependent/independent sampling and on the oil spill recovery in the Gulf of Mexico.

10 a.m.-3:45 p.m.—The Council will review and discuss reports from the committee meetings as follows: Budget/Personnel; Coastal Migratory Pelagic (Mackerel); Sustainable Fisheries/Ecosystem; Joint Allocation/Reef Fish; Advisory Panel Selection; Scientific & Statistical Committee Selection; and Reef Fish.

3:45 p.m.-4:15 p.m.—Other Business items will follow from. The Council will conclude its meeting at approximately 4:15 p.m.

Committees

Monday, April 11, 2011

8:30 a.m.-11:30 a.m.—Closed Session—The Advisory Panel Selection Committee/Full Council will meet to conduct the bi-annual appointment of members to the various Advisory Panels.

1 p.m.-3:30 p.m.—Closed Session—The Scientific & Statistical Committees Selection Committee/Full Council will meet to conduct the bi-annual appointment of members to the various Scientific & Statistical Committees.

3:30 p.m.-4 p.m.—The Budget/Personnel Committee will receive a report on the 2011 Council budget.

4 p.m.-5 p.m.—A joint meeting of the Allocation and Reef Fish Management Committees will be held to discuss Reef Fish Amendment 28 that addresses grouper allocation.

—Recess—

Tuesday, April 12, 2011

8:30 a.m.-11:30 a.m. & 1 p.m.-3 p.m.—The Sustainable Fisheries/Ecosystem Management Committee will review a public hearing draft of the Generic Annual Catch Limits/Accountability Measure Amendment. The Committee will also review sector separation scenarios.

3 p.m.-5 p.m.—The Coastal Migratory Pelagics (Mackerel) Management Committee will review the public hearing draft of Amendment 18 to the Coastal Migratory Pelagics Fishery Management Plan

—Recess—

Immediately Following Committee Recess—There will be an informal open public question and answer session on Gulf of Mexico Fishery Management Issues.

Wednesday, April 13, 2011

8:30 a.m.-11:30 a.m. & 1 p.m.-3:15 p.m.—The Reef Fish Management Committee will discuss the final action on the gag interim rule; review a public hearing draft of Reef Fish Amendment 32 to the Reef Fish Fishery Management Plan; received a report on the greater amberjack update assessment; receive a summary of the scoping meetings on the Earned Income Requirement/Crew Size Amendment to the Reef Fish Fishery Management Plan; and receive a report on the Reef Fish Limited Access Privilege Program Advisory Panel meeting.

3:15 p.m.-3:30 p.m.-The Joint Shrimp/Reef Fish Management Committee will discuss the adjustment to the shrimp trawl red snapper bycatch mortality target goal.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Kathy Pereira at the Council (see ADDRESSES) at least 5 working days prior to the meeting.

Dated: March 18, 2011.
Tracey L. Thompson,
Acting Director, Office of Sustainable Fisheries, National Marine Fisheries Service.

[FR Doc. 2011-6878 Filed 3-22-11; 8:45 am]

BILLING CODE 3510-22-P